DEPARTMENT OF ENERGY

Federal Energy Regulatory Commission

[Project No. 2538-102]

Erie Boulevard Hydropower, L.P.; Notice of Application Tendered for Filing With the Commission and Establishing Procedural Schedule for Licensing and Deadline for Submission of Final Amendments

Take notice that the following hydroelectric application has been filed with the Commission and is available for public inspection.

a. Type of Application: New Major License.

b. Project No.: 2538-102.

c. Date Filed: August 30, 2024.

d. Applicant: Erie Boulevard Hydropower, L.P. (Erie).

e. Name of Project: Beebee Island Hydroelectric Project (project).

f. Location: On the Black River in Jefferson County, New York.

g. Filed Pursuant to: Federal Power Act, 16 U.S.C. 791(a)-825(r).

h. Applicant Contact: Mr. Steven P. Murphy, Director—U.S. Licensing, Brookfield Renewable, 33 West 1st Street South, Fulton, NY 13069; telephone at (315) 598-6130; email at Stephen.Murphy@brookfieldrenewable.com.

i. FERC Contact: Nicholas Ettema, Project Coordinator, Great Lakes Branch, Division of Hydropower Licensing; telephone at (312) 596-4447; email at nicholas.ettema@ferc.gov.

j. The application is not ready for environmental analysis at this time.

Project Description: The Beebee Island Project includes: (1) a stone masonry and concrete diversion dam (South Channel Dam); and (2) a concrete dam (Beebee Island Dam) that consists of: (a) a 10.5-foot-long section with a debris stoplog gate and a 2.4-foot-long sluice gate; (b) an 81.5-foot-long, 47.3-foot-wide powerhouse integral with the dam that includes: (i) a 71-foot-long intake structure with four sluice gates, a skimmer equipped with a stoplog gate, and a trashrack with 2-inch clear bar spacing; and (ii) a 3.75-megawatt (MW) vertical propeller turbine-generator and a 4-MW vertical Kaplan turbine-generator, for a total installed capacity of 7.75 MW; (c) an overflow section with: (i) a 42-foot-long and 50.5-foot-long spillway, each with a 3-foot-high inflatable rubber crest gate with a maximum crest elevation of 430.62 feet North American Vertical Datum of 1988 (NAVD 88); and (ii) a 97.4-foot-long and 61-foot-long spillway, each with 3-foot-high flashboards that have a crest elevation of 430.62 feet NAVD 88; and (d) a 24.7-foot-long north non-overflow section with a 3-foot-long sluice gate. The dam creates an impoundment that has a surface area of 20 acres at 430.62 feet NAVD 88. The south shoreline of the impoundment also includes a 450-foot-long retaining/flood wall between the South Channel Dam and Beebee Island Dam.

From the impoundment, water flows through the powerhouse to a 15-foot-long tailrace. The South Channel Dam creates an approximately 1,000-foot-long bypassed reach of the Black River. Minimum flows are provided to the bypassed reach through a gated, 2-foot-diameter pipe in the South Channel Dam.

The project includes a downstream fish passage facility that consists of: (1) the sluice gate adjacent to the intake structure; and (2) an 8-foot-wide sluiceway that discharges immediately downstream of the powerhouse. The current license requires the licensee to provide a boat take-out site upstream of the dam and directional signage to downstream boat put-in locations.

The generators are connected to the regional electric grid by a 300-foot-long, 4.8-kilovolt underground generator lead line. The minimum and maximum hydraulic capacities of the powerhouse are 200 and 3,600 cubic feet per second (cfs), respectively. The average annual energy production of the project from 2010 through 2020, was 43,768 megawatt-hours.

Article 401 of the current license requires Erie to operate the project in a run-of-river mode, such that project outflow approximates inflow to the impoundment at any point in time and the surface elevation of the impoundment is maintained at no lower than 0.5 foot below either (1) the spillway crest elevation or (2) the crest of the flashboards when in place. Article 404 requires a minimum flow of 14 cfs to the bypassed reach and Article 403 requires a minimum flow of 1,000 cfs or inflow, whichever is less, downstream of the project.

Article 402 requires Erie to install flashboards by May 1, or as soon thereafter as safely possible, and to remove the flashboards in the fall prior to ice conditions. Article 410 requires Erie to install trashrack overlays with 1-inch clear bar spacing at the top half portion of the trashracks from May 1 through October 1. Additionally, Article 411 requires Erie to release 37 cfs through the downstream fish passage facility from April 1 through November 30. The current license also requires the implementation of a Flow Monitoring Plan to ensure compliance with the project flow requirements and a Record Keeping Plan to maintain records of the impoundment elevations and discharges from the project, in compliance with Articles 408 and 409.

Article 414 requires 0.5-inch veiling flows over the 97.4-foot-long spillway from May 1 to October 31. Article 416 requires the implementation of a Cultural Resources Management Plan to protect historic properties.

Erie proposes to continue operating the project as required under the current license. In addition, Erie proposes to develop a new minimum flow and fish conveyance plan, streamflow and headpond monitoring plan, recreation plan, and historic properties management plan.

k. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-2538). For assistance, contact FERC at FERCOnlineSupport@ferc.gov, (866) 208-3676 (toll free), or (202) 502-8659 (TTY).

You may also register online at https://ferconline.ferc.gov/FERCOnline.aspx to be notified via email of new filings and issuances related to this or other pending projects. For assistance, contact FERC Online Support.

l. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

m. Procedural Schedule: The application will be processed according to the following preliminary schedule. Revisions to the schedule will be made as appropriate.

Deficiency Letter and Additional Information Request—September 2024

Notice of Acceptance—February 2025

n. Final amendments to the application must be filed with the Commission no later than 30 days from the issuance date of the notice of ready for environmental analysis.

Dated: September 13, 2024.
Debbie-Anne A. Reese,
Acting Secretary.

[FR Doc. 2024-21483 Filed 9-19-24; 8:45 am]

BILLING CODE 6717-01-P